DEPARTMENT OF HOUSING AND URBAN DEVELOPMENT

[Docket No. FR-5894-N-01]

Notice of Intent To Prepare an Environmental Impact Statement for the Lambert Houses Redevelopment Project, Bronx, NY

AGENCY: Office of the Assistant Secretary for Community Planning and Development, HUD.

ACTION: Notice of intent to prepare an EIS.

SUMMARY: This provides notice to the public, agencies, and Indian tribes that the City of New York—Department of Housing Preservation & Development (HPD), as the Responsible Entity in accordance with 24 CFR 58.2(a)(7), and the lead agency in accordance with City Environmental Quality Review (CEQR), Executive Order No. 91, and the New York State Environmental Quality Review Act (SEQRA), 6 NYCRR 617, intend to prepare a Draft Environmental Impact Statement (EIS) for the Lambert Houses Redevelopment Project. The EIS will be compliant with the National Environmental Policy Act (NEPA) and CEQR. The EIS will satisfy requirements of SEQR (6 NYCRR 617.8) and CEQR (Sections 6-08 and 6-12 of Executive Order No. 91 of 1977 as amended), which require that state and local government agencies consider the environmental consequences of projects over which they have discretionary authority before acting on those projects. The project is subject to NEPA due to the reassignment of project-based rental assistance contracts through HUD and potential future construction financing from HPD (made available through HUD). This notice has been prepared in accordance with the Council on Environmental Quality (CEQ) regulations at 40 CFR parts 1500-1508.

A Draft EIS will be prepared for the proposed action described herein. Comments relating to the Draft EIS are requested and will be accepted by the contact person listed below. When the Draft EIS is completed, a notice will be sent to individuals and groups known to have an interest in the Draft EIS and particularly in the environmental impact issues identified therein. Any person or agency interested in receiving a notice and making comment on the Draft EIS should contact the person listed below up to 30 days following publication of this notice.

The EIS will be a NEPA document intended to satisfy requirements of federal environmental statutes. In accordance with specific statutory authority applicable to HUD's Section 8 project-based rental assistance program and HOME program, and HUD's regulations at 24 CFR part 58 (Environmental Review Procedures for Entities Assuming HUD Environmental Responsibilities), HUD has provided for assumption of its NEPA authority and NEPA lead agency responsibility by the City of New York. The EIS will be a CEQR document intended to satisfy State and City environmental statutes as described above.

ADDRESSES: All interested agencies, tribes, groups, and persons are invited to submit written comments on the project named in this notice and on the Draft EIS to the contact person shown in this notice. The office of the contact person should receive comments and all comments so received will be considered prior to the preparation and distribution of the Draft EIS. Particularly solicited is information on reports or other environmental studies planned or completed in the project area, major issues that the EIS should consider, recommended mitigation measures, and alternatives associated with the proposed action. Federal agencies having jurisdiction by law, special expertise, or other special interest should report their interest and indicate their readiness to aid in the EIS effort as a “Cooperating Agency.”

FOR FURTHER INFORMATION CONTACT: Patrick Blanchfield, Executive Director of Environmental Planning, City of New York—Department of Housing Preservation & Development, 100 Gold Street, Room 7A-3, New York, NY 10038; email: blanchfp@hpd.nyc.gov.

SUPPLEMENTARY INFORMATION:

A. Background

HPD, acting under authority of HUD's regulations at 24 CFR part 58, in cooperation with other interested agencies, will prepare an EIS to analyze potential impacts of the Lambert Houses Redevelopment Project.

HPD, on behalf of the project sponsor, Phipps Houses, is seeking approval of several discretionary actions (the “Proposed Actions”) to facilitate the redevelopment of Lambert Houses, an existing residential and commercial development occupying approximately 12 acres in the East Tremont neighborhood of the Bronx, New York (“the Proposed Project”). The Project Area includes parcels 1, 3, 5, and 10 in the northern section of the Bronx Park South Large-Scale Residential Development (LSRD). Parcel 1 (Block 3138, Lot 1) is an approximately 2.9-acre parcel located along the west side of Boston Road between East 180th Street and Bronx Park South and is comprised of a group of four interconnected six-story buildings containing 237 residential units. Parcel 3 (Block 3132, Lot 1) is an approximately 4.5-acre parcel located along the west side of Boston Road between East 179th and East 180th Streets which currently contains 325 residential units in seven interconnected six-story buildings. Parcel 5 (Block 3140, Lot 7) is an approximately 1.8-acre parcel located at the southeast corner of Boston Road and East 180th Street which currently contains 169 residential units in a group of three interconnected six-story buildings. Parcel 10 (Block 3139, Lots 1 and 19) is an approximately 2.5-acre parcel bounded to the west by Boston Road, to the south by East Tremont Avenue, to the east by the Bronx River Greenway, and to the north by East 179th Street. Parcel 10 currently contains one two-story building containing approximately 48,610 sq. ft., including an approximately 39,490 sq. ft. of retail uses and a 375-space parking garage. An approximately 3,720-sq. ft. city-owned lot (Block 3139, Lot 50) just south of Parcel 10 would be conveyed to Phipps Houses and become part of Parcel 10. This lot currently contains seating, trees and plantings. In total, the approximately 12-acre Project Area contains five groupings of six-story buildings containing 731 residential units, and one two-story building containing approximately 39,490 sq. ft. of retail use and 375 parking spaces.

Construction of the Proposed Project has a Build Year of 2029, as construction would occur over a build out period of approximately 15 years. During construction of the Proposed Project, current tenants would be relocated from buildings to be demolished to other locations within the Lambert Houses development. Once relocated, the unoccupied buildings would be demolished and construction of new buildings would proceed. Tenants of the next buildings to be demolished would be relocated within the Lambert Houses Project Area to the newly constructed buildings, and the demolition and construction process would begin again. This process would be repeated through completion of the Proposed Project. Overall, the Proposed Project would redevelop the Project Area with the following:

• A total of approximately 1,665 residential units at the completion of the project, for an increment of approximately 934 units over the No Action condition. The proposed residential units would all be affordable.

• Approximately 61,100 sq. ft. of retail, for an increment of 21,610 sq. ft. over the No-Action condition.

• A new public school of approximately 86,608 sq. ft. on a portion of Parcel 10. It is expected that this school would be a 500-seat elementary school.

• A reduction in the amount of parking at the site, for a total of 110 spaces.

In order to address a projected shortfall of seats in the project area's public schools, the New York City School Construction Authority (SCA) will be given an option to acquire the site for proposed school for a nominal fee. If SCA were to decline to exercise this option and construct the school, a residential building with approximately 55 units would be constructed in its place. The environmental impacts of the scenario in which a residential building would replace the school will be analyzed in the Alternatives chapter of the EIS.

The Proposed Project would be facilitated by the following discretionary actions:

• Disposition of City-owned property (Block 3139, Lot 50) and designation as an Urban Development Action Area Project (UDAAP).

• Zoning Map Amendment to rezone Parcels 1, 3 and 5 from R7-1 and Parcel 10 from R7-1/C1-4 as follows:

· Parcel 1: R7-1 to a mix of R7-1, R8, and R8/C1-4

· Parcel 3: R7-1 to a mix of R7-1, R8, and R8/C1-4

· Parcel 5: R7-1 to a mix of R7-1 and R8

· Parcel 10: R71/C1-4 to R8/C1-4

• Establishment of a new LSRD consisting of Parcels 1, 3, 5, 10, as well as Block 3139, Lot 50. The remainder of the Bronx Park South LSRD is proposed to become a new LSRD based on a separate action sponsored by the Association of New York Catholic Homes.

• Authorizations under ZR Section 78-311 and Special Permits under ZR Section 78-312:

· To permit distribution of the total floor area, lot coverage and number of dwelling units permitted by the applicable district regulations to be distributed without regard for zoning lot lines or zoning district boundaries.

· To permit the total open space required by the applicable district regulations to be distributed without regard for zoning lot lines or zoning district boundaries.

· To permit variations in the front height and setback regulations including variation in the maximum height and number of stories of the front wall within the initial setback distance, modification of the initial setback distance, and to permit penetration of the sky exposure plane.

· To modify the required rear yard setback for tall buildings per Section 23-663.

· To permit an interim condition in which the minimum distance between buildings is waived between the new Building 3A and the existing building to the south.

• Special Permit pursuant to ZR 74-53 to permit the provision of off-street accessory parking spaces to be located in a parking lot on the roof of a building.

• Zoning text amendment to modify ZR Section 78-42 to permit a reduction of parking requirements for affordable housing units in LSRDs in Community District 6 in the Borough of the Bronx.

• Zoning text amendment consistent with the City's proposed Mandatory Inclusionary Housing text amendment.

• Coastal zone consistency determination.

• Site plan approval by the Mayor and City Council pursuant to SCA requirements for the proposed school on Parcel 10.

The Proposed Project may also seek funding from HPD, the New York City Housing Development Corporation (HDC), New York State Homes and Community Renewal (HCR), and other State agencies for affordable housing construction. In addition, the Proposed Project would require approval by HUD of the reassignment of project-based rental assistance contracts, and may also seek HOME funds or other federal funding originating from HUD.

The Proposed Project is intended to improve the quality of life for current Lambert Houses residents while increasing the number of affordable housing units in the Project Area. The Project Area is underdeveloped, with less floor area than even the current zoning districts allow, and less density than much of the surrounding neighborhood. The existing buildings were constructed between 1970 and 1973 and have antiquated and inefficient building systems. Furthermore, the configuration and circulation plan of the buildings, with multiple entrances and egresses, compromise building security by making control of access difficult. The retail space currently on the site is inefficient, with storefronts set back far from the street wall, poor frontage, and inadequate storage space for merchants.

The proposed new LSRD and associated special permits and authorizations, including waivers of height and setback requirements, are being requested in order to allow for the redistribution of floor area across the entire project area, creating a site plan, building layout and design superior to what would be allowed as‐of‐right under the current LSRD.

Alternatives to the Proposed Project

Alternatives to the Proposed Project will be analyzed in the EIS. Typically, the Alternatives section in an EIS examines development options that would tend to reduce project-related impacts. The full range of alternatives will be defined when the full extent of the Proposed Project's impacts is identified, but at this time, it is anticipated that they will include the following:

Alternative 1—No Action Alternative

The No Action Alternative assumes that the existing uses in the Project Area would remain.

Alternative 2—All Residential Scenario on Parcel 10 (No School) Alternative

This alternative would analyze an additional 55 residential units on Parcel 10 (no school would be proposed).

Alternative 3—No Unmitigated Adverse Impacts Alternative

If significant adverse impacts are identified in the EIS, this alternative would describe the modifications to the project that would be needed to avoid any such impacts.

Other possible alternatives may be developed in consultation with the project sponsor, DCP, and HPD during the EIS preparation process and may be suggested by the public during the scoping of the EIS.

B. Need for the EIS

The proposed project may constitute an action significantly affecting the quality of the human environment and an EIS will be prepared on this project in accordance with CEQR and NEPA. Responses to this notice will be used to: (1) Determine significant environmental issues, (2) identify data that the EIS should address, and (3) identify agencies and other parties that will participate in the EIS process and the basis for their involvement.

C. Scoping

A public EIS scoping meeting will be held at 4:00 p.m. on Wednesday, October 21, 2015 at the Daly Community Room located at 921 E. 180th Street, Bronx, New York 10460. The EIS scoping meeting, which will also satisfy the scoping meeting requirement for SEQR/CEQR, will provide an opportunity for the public to learn more about the project and provide input to the environmental process. At the meeting, an overview of the project will be presented and members of the public will be invited to comment on the proposed project and the scope of work for the environmental analyses in the EIS. Written comments and testimony concerning the scope of the EIS will be accepted by HPD at this meeting and will also be accepted until the close of business on November 2, 2015. In accordance with 40 CFR 1501.7 affected Federal, State, and local agencies, any affected Native American tribe, and other interested parties will be sent a scoping notice. To satisfy the requirements of 6 NYCRR 617.8, the scoping hearing will be preceded by a public notice published in the New York State Department of Environmental Conservation (DEC) Environmental Notice Bulletin (ENB) and the New York City Record at least 30 days prior to the hearing date.

D. Probable Environmental Effects

The following subject areas will be analyzed in the combined EIS for probable environmental impacts: Land Use, Zoning, and Public Policy; Socioeconomic Conditions; Community Facilities and Services; Open Space; Shadows; Historic Resources; Urban Design/Visual Resources; Natural Resources; Hazardous Materials; Water and Sewer Infrastructure; Solid Waste and Sanitation Services; Energy; Transportation (including traffic, parking, pedestrian conditions, and transit); Air Quality; Greenhouse Gas Emissions; Noise; Neighborhood Character; Construction Impacts; Public Health; and Environmental Justice.

Questions may be directed to the individual named in this notice under the heading FOR FURTHER INFORMATION CONTACT.

Dated: September 21, 2015.
Harriet Tregoning,
Principal Deputy Assistant Secretary for Community Planning and Development.

[FR Doc. 2015-24850 Filed 9-29-15; 8:45 am]

BILLING CODE 4210-67-P